ENVIRONMENTAL PROTECTION AGENCY

[ER-FRL-6687-9]

Environmental Impacts Statements; Notice of Availability

Responsible Agency: Office of Federal Activities, General Information 202-564-7167 or http://www.epa.gov/compliance/nepa/.

Weekly receipt of Environmental Impact Statements

Filed 06/04/2007 Through 06/08/2007

Pursuant to 40 CFR 1506.9.

EIS No. 20070232, Final EIS, FHW, 00, Bellevue Bridge Study, To Improve Connectivity between the Omaha Metropolitan Area and across the Missouri River from U.S. 75 to I-29, Coast Guard Permit, NPDES Permit, U.S. Army COE Section 10 and 404 Permits, Mills County, IA and Sarp County, NE., Wait Period Ends: 07/24/2007, Contact: Philip Barnes 515-233-7300.

EIS No. 20070233, Final EIS, NPS, CO, Great Sand Dunes National and Preserve. General Management Plan/Wilderness Study, Implementation, Alamos and Saguache Counties, CO, Wait Period Ends: 07/16/2007, Contact: Suzanne M. Stutzman 303-987-6671.

EIS No. 20070234, Draft EIS, FHW, TX, U.S. 290 Corridor, Propose to Construct Roadway Improvements from Farm-to-Market (FM) 2920 to Interstate Highway (IH) 610, Funding and Right-of-Way Grant, Harris County, TX, Comment Period Ends: 08/03/2007, Contact: Donald E. Davis 512-536-5960.

EIS No. 20070235, Final EIS, BLM, CA, Alturas Field Office Project, Resource Management Plan, Implementation, Alturas Field Office Project, Resource Management Plan, Implementation, Lassen, Modoc, Shasta and Siskiyou Counties, CA, Wait Period Ends: 07/16/2007, Contact: Sue Noggles 530-252-5345.

EIS No. 20070236, Final EIS, BLM, 00, Eagle Lake Field Office Project, Resource Management Plan, Implementation, Lassen, Plumas, Sierra Counties, CA and Washoe County, NV, Wait Period Ends: 07/16/2007, Contact: Sue Noggles 530-252-5345.

EIS No. 20070237, Final EIS, BLM, 00, Surprise Field Office Project, Resource Management Plan, Implementation, Cedarville, Modoc and Lassen, CA and Washoe and Humboldt Counties, NV, Wait Period Ends: 07/16/2007 Contact: Sue Noggles 530-252-5345.

EIS No. 20070238, Draft EIS, AFS, 00, Mt. Ashland Late-Successional Reserve Habitat Restoration and Fuels Reduction Project, To Promote and Maintain Late-Successional Habitat, Oak Ranger District, Klamath National Forest, Siskiyou County, CA and Jackson County, OR, Comment Period Ends: 07/30/2007, Contact: Susan Stresser 530-841-4538.

EIS No. 20070239, Draft EIS, AFS, CA, Sugarberry Project, Proposes to Protect Rural Communities from Fire Hazards by Constructing Fuel Breaks Known as Defensible Fuel Profile Zones (DFPZs), Feather River Ranger District, Plumas National Forest, Plumas, Sierra, Yuba Counties, CA, Comment Period Ends: 07/30/2007, Contact: John Zarlengo 530-534-6500.

EIS No. 20070240, Final EIS, AFS, 00, Northern Rockies Lynx Management Direction, Selected Alternative F, Conservation and Promote Recovery of the Canada Lynx, NFS and BLM to Amend Land Resource Management Plans for 18 National Forests (NF), MT, WY, UT, and ID, Wait Period Ends: 07/16/2007, Contact: Raymond Smith 406-329-3316.

EIS No. 20070241, Draft EIS, NPS, 00, Quarry Visitor Center Treatment Project, To Address the Structural Deterioration, Dinosaur National Monument, CO and UT, Comment Period Ends: 08/10/2007, Contact: Tom Thomas 303-969-2310.

EIS No. 20070242, Final EIS, COE, OH, Dover Dam Safety Assurance Program Project, Modifications and Upgrades, Funding, Muskingum River Basin, Tuscarawas County, OH, Wait Period Ends: 07/16/2007, Contact: Rodney G. Cremeans 304-399-5170.

EIS No. 20070243, Draft EIS, AFS, WY, Thunder Basin Analysis Area Vegetation Management, To Implement Best Management Grazing Practices and Activities, Douglas Ranger District, Medicine Bow-Routt National Forests and Thunder Basin National Grassland, Campbell, Converse and Weston Counties, WY, Comment Period Ends: 07/30/2007, Contact: Kyle Schmitt 307-358-4690.

EIS No. 20070244, Final EIS, FRC, 00, North Baja Pipeline Expansion Project, Docket Nos. CP06-61-000 and CP01-23-000, Construction and Operation a Natural Gas Pipeline System, Land Use Plan Amendment, Right-of-Way Grant, Temporary Use Permits and U.S. Army COE Section 10 and 404 Permits, La Paz County, AZ and Riverside and Imperial Counties, CA, Wait Period Ends: 07/16/2007, Contact: Andy Black 1-866-208-3372.

EIS No. 20070245, Final EIS, FHW, NY, Long Island Expressway (LIE) Rest Area Upgrade Project, Upgrading the Existing Rest Area from Route 1-495/ Long Island Expressway between Exits 51 and 52, Funding, Town of Huntington, Suffolk County, NY, Wait Period Ends: 07/16/2007, Contact: Robert Arnold 578-431-4127.

EIS No. 20070246, Final EIS, MMS, AK, Chukchi Sea Planning Area Oil and Gas Lease Sale 193 and Seismic Surveying Activities, Offshore Marine Environment, Chukchi Sea Coastal Plain, and the North Slope Borough of Alaska, Wait Period Ends: 07/16/2007, Contact: James Bennett 703-787-1660.

EIS No. 20070247, Draft EIS, NRC, NY, GENERIC—James A. Fitzpatrick Nuclear Power Plant, License Renewal of Nuclear Plant, Site Specific Supplement 31 to NUREG-1437, Town of Sriba, NY, Comment Period Ends: 09/05/2007, Contact: Jessie M. Muir 301-415-0491.

Dated: June 12, 2007.
Robert W. Hargrove,
Director, NEPA Compliance Division, Office of Federal Activities.

[FR Doc. E7-11576 Filed 6-14-07; 8:45 am]

BILLING CODE 6560-50-P